DEPARTMENT OF DEFENSE

Office of the Secretary

[Transmittal Nos. 14-16]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-16 with attached transmittal, policy justification and Sensitivity of Technology.

Dated: June 18, 2014.
Aaron Siegel,
Alternate OSD Federal Register Liaison Officer, Department of Defense.

BILLING CODE: 5001-06-P

BILLING CODE: 5001-06-C

Transmittal No. 14-16

Notice of Proposed Issuance of Letter of Offer Pursuant to Section 36(b)(1) of the Arms Export Control Act, as amended

(i) Prospective Purchaser: Singapore

(ii) Total Estimated Value:

Major Defense Equipment* | $ 3 million
Other | $248 million
Total | $251 million

(iii) Description and Quantity or Quantities of Articles or Services under Consideration for Purchase: follow-on support and services for Singapore's Continental United States (CONUS) detachment PEACE CARVIN II (F-16) based at Luke Air Force Base (AFB) for a five-year period. MDE consists of 80 CATM-9M Captive Air Training Missiles. Also included: Jet fuel, containers, publications and technical documentation, tactics manuals and academic instruction, maintenance, clothing and individual equipment, execution and support of CONUS exercise deployments, airlift and aerial refueling, support equipment, spare and repair parts, repair and return, personnel training and training equipment, U.S. Government and contractor technical and logistics support services, and other related elements of logistical and program support.

(iv) Military Department: Air Force (NCZ)

(v) Prior Related Cases, if any:

FMS case SAA-$192M-24Feb06

FMS case NCX-$107M-20Sep06

FMS case NAS-$187M-25Mar08

FMS case NCY-$202M-01Oct09

FMS case SAC-$98M-30Oct09

(vi) Sales Commission, Fee, etc., Paid, Offered, or Agreed to be Paid: None

(vii) Sensitivity of Technology Contained in the Defense Article or Defense Services Proposed to be Sold: See Attached Annex.

(viii) Date Report Delivered to Congress: 16 June 2014

* as defined in Section 47(6) of the Arms Export Control Act.

Policy Justification

Singapore—F-16 Pilot Training

The Government of Singapore has requested a possible sale of follow-on support and services for Singapore's Continental United States (CONUS) detachment PEACE CARVIN II (F-16) based at Luke Air Force Base (AFB) for a five-year period. MDE consists of 80 CATM-9M Captive Air Training Missiles. Also included: Jet fuel, containers, publications and technical documentation, tactics manuals and academic instruction, maintenance, clothing and individual equipment, execution and support of CONUS exercise deployments, airlift and aerial refueling, support equipment, spare and repair parts, repair and return, personnel training and training equipment, U.S. Government and contractor technical and logistics support services, and other related elements of logistical and program support. The estimated cost is $251 million.

This proposed sale will contribute to the foreign policy and national security of the United States by helping to improve the security of a friendly country that has been, and continues to be, an important force for economic progress in Southeast Asia.

Singapore needs this training and equipment to support its F-16 aircraft. The continuation of this training program will enable Singapore to develop mission-ready and experienced F-16 pilots. The well-established pilot proficiency training program at Luke Air Force Base will support professional interaction and enhance operational interoperability with U.S. forces.

The proposed sale of this equipment and support will not alter the basic military balance in the region.

The principal contractor will be Raytheon Corporation in Tucson, Arizona. There are no known offset agreements proposed in connection with this potential sale.

Implementation of this proposed sale will not require the assignment of any additional U.S. Government and contractor representatives to Singapore.

There will be no adverse impact on U.S. defense readiness as a result of this proposed sale.

Transmittal No. 14-16

Notice of Proposed Issuance of Letter of Offer Pursuant to Section 36(b)(1) of the Arms Export Control Act

Annex

Item No. vii

(vii) Sensitivity of Technology:

1. The CATM-9M Captive Air Training Missile (CATM) is a captive version of the AIM-9M-8/9 Sidewinder used for training purposes only. The CATM does not include the rocket motor or warhead but does include the AIM-9M-8/9 Sidewinder Active Optical Target Detector, Gyro Optics Assembly within the Guidance Control Section, Infrared Countermeasures, and Detection and Rejection Circuitry.

2. The equipment hardware, software, and maintenance are classified Confidential. Pilot training is classified Secret. Manuals and technical documentation are classified Secret. Performance and operating information is classified Secret.

3. If a technologically advanced adversary were to obtain knowledge of the specific hardware and software elements, the information could be used to develop countermeasures which might reduce weapon system effectiveness or be used in the development of a system with similar or advanced capabilities.

4. A determination has been made that the recipient country can provide the same degree of protection for the sensitive technology being released as the U.S. Government. This sale is necessary in furtherance of the U.S. foreign policy and national security objectives outlined in the Policy Justification.

5. All defense articles and services listed in this transmittal have been authorized for release and export to the Government of Singapore.

[FR Doc. 2014-14588 Filed 6-20-14; 8:45 am]

BILLING CODE 5001-06-P